DEPARTMENT OF EDUCATION

Privacy Act of 1974; System of Records

AGENCY: Federal Student Aid, U.S. Department of Education.

ACTION: Notice of an altered system of records.

SUMMARY: In accordance with the Privacy Act of 1974, as amended (Privacy Act), 5 U.S.C. 552a, the Chief Operating Officer for Federal Student Aid (FSA) of the Department of Education (Department) publishes this notice proposing to revise the system of records entitled “National Student Loan Data System (NSLDS)” (18-11-06), originally published on December 27, 1999 (64 FR 72395-72397), altered on September 7, 2010 (75 FR 54331-54336), and most recently altered on June 24, 2011 (76 FR 37095-37100).

The Department proposes to revise the NSLDS to make necessary updates resulting from the Moving Ahead for Progress in the 21st Century Act (MAP-21), Public Law 112-141, which amended the Higher Education Act of 1965, as amended (HEA), to limit students' eligibility for Direct Subsidized Loans to no more than 150 percent of the published length of the educational program in which the student is enrolled.

We are also expanding the system's categories of records, purposes, authority, and its routine uses to reflect programmatic disclosures needed to better evaluate the effectiveness of institutions and their title IV-eligible educational programs, and to make that information available to the general public on the Department's “College Scorecard” and the Department's “Financial Aid Shopping Sheet.” Finally, we are revising and streamlining programmatic routine use 1(c).

DATES: Submit your comments on the proposed altered system of records notice on or before July 29, 2013.

The Department filed a report describing the altered system of records covered by this notice with the Chair of the Senate Committee on Homeland Security and Governmental Affairs, the Chair of the House Committee on Oversight and Government Reform, and the Administrator of the Office of Information and Regulatory Affairs, Office of Management and Budget (OMB), on June 14, 2013. This altered system of records will become effective at the later date of: (1) The expiration of the 40-day period for OMB review on July 25, 2013, unless OMB waives 10 days of the 40-day review period for compelling reasons shown by the Department; or (2) July 29, 2013, unless the system of records needs to be changed as a result of public comment or OMB review.

ADDRESSES: Address all comments to: Director, NSLDS Systems, Operations and Aid Delivery Management Services, FSA, U.S. Department of Education, Union Center Plaza (UCP), 830 First Street NE., Room 44F1, Washington, DC 20202-5454. Telephone: 202-377-3547. If you prefer to send comments by email, use the following address: comments@ed.gov.

You must include the term “NSLDS comments” in the subject line of your email.

During or after the comment period, you may inspect all public comments about this notice in room 44D2, UCP, 4th floor, 830 First Street NE., Washington, DC 20202-5454 between the hours of 8:00 a.m. and 4:30 p.m., Eastern Time, Monday through Friday of each week except Federal holidays. Assistance to Individuals With Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Director, NSLDS Systems, Operations and Aid Delivery Management Services, FSA, U.S. Department of Education, UCP, 830 First Street NE., Room 41F1, Washington, DC 20202-5454. Telephone: 202-377-3547.

If you use a telecommunications device for the deaf (TDD) or a text telephone (TTY), call the Federal Relay Service (FRS), toll free, at 1-800-877-8339.

SUPPLEMENTARY INFORMATION:

Introduction

The Privacy Act of 1974 (5 U.S.C. 552a(e)(4) and (11)) requires the Department to publish this notice of an altered system of records in the Federal Register. The Department's regulations implementing the Privacy Act are in the Code of Federal Regulations (CFR), in 34 CFR part 5b.

The Privacy Act applies to information about an individual that is maintained in a system of records from which information is retrieved by a unique identifier associated with each individual, such as a name or Social Security number (SSN). The information about each individual is called a “record,” and the system, whether manual or computer-based, is called a “system of records.”

The Privacy Act requires each federal agency to publish a notice of a new or altered system of records in the Federal Register and to prepare, whenever the agency publishes a new system of records or makes a significant change to an established system of records, a report to the Chair of the Committee on Oversight and Government Reform of the House of Representatives, the Chair of the Committee on Homeland Security and Governmental Affairs of the Senate, and the Administrator of the Office of Information and Regulatory Affairs, OMB. A significant change must be reported whenever an agency expands the types or categories of information maintained, significantly expands the numbers, types, or categories of individuals about whom records are maintained, changes the purposes for which the information is used, changes equipment configuration in a way that creates substantially greater access to the records, or adds a routine use disclosure to the system.

This system of records was first published in the Federal Register on December 27, 1999 (64 FR 72395-97), altered on September 7, 2010 (75 FR 54331-54336), and most recently altered on June 24, 2011 (76 FR 37095-37100). A number of changes are needed to update and accurately describe the current NSLDS system of records.

We revise the NSLDS to make necessary updates resulting from the MAP-21, Public Law 112-141, which amended the HEA, to limit students' eligibility for Direct Subsidized Loans to no more than 150 percent of the published length of the educational program in which the student is enrolled as specified in programmatic routine use (1)(o).

In certain circumstances, under the changes made by MAP-21, students who are enrolled after reaching the 150 percent limit are responsible for accruing interest on outstanding Direct Subsidized Loans. As a result of these statutory changes, we are expanding the categories of records maintained in the system, the system's purposes, and the routine uses to reflect needed programmatic disclosures.

Specifically, as described in the notice, the types of records maintained in the system need to be expanded. Additional information will be collected from institutions regarding the credential level (e.g., certificate, associate's degree, bachelor's degree), Classification of Instructional Program (CIP) code, and published length for the educational program in which a student who receives aid from the federal student aid programs authorized under title IV of the HEA (title IV programs) is enrolled. This information will be used both to implement new statutory changes that limit borrower eligibility for Direct Subsidized Loans to no more than 150 percent of the published length of the educational program in which the student is enrolled and to determine the periods for which a borrower who enrolls after reaching the 150 percent limit will be responsible for the accruing interest on outstanding Direct Subsidized Loans.

We are also expanding the authority for the NSLDS System to include Section 431 of the General Education Provisions Act (GEPA), which directs the Secretary “to collect data and information on applicable programs for the purpose of obtaining objective measurements of the effectiveness of such programs in achieving the intended purposes of such programs” and “to inform the public regarding federally supported education programs.” 20 U.S.C. 1231a(2)-(3). In addition, we are adding as authority for the system Section 132(i) of the HEA, which directs the Secretary to post to the College Navigator Web site “consumer information” for each institution that participates in the HEA title IV programs, which includes a list of 26 specific items or groups of data specific to the institution. Notably, this list includes direction for the Department to post “a link to the appropriate section of the Bureau of Labor Statistics Web site that provides information on regional data on starting salaries in all major occupations.” 20 U.S.C. 1015a(i)(1)(W).

We are also adding a purpose for the information maintained in the NSLDS relating to title IV eligible and participating institutions obtaining data and reporting the level of study, CIP code—(a code published by the Department's National Center for Education Statistics to support the accurate tracking, assessment, and reporting of fields of study and program completions activity), and published length of an educational program in which a student receiving title IV, HEA Federal student aid is enrolled to ensure his or her eligibility for Direct Subsidized Loans is limited to no more than 150 percent of the published length of the educational program, and to determine the periods for which a borrower who enrolls after reaching the 150 percent limit will be responsible for the accruing interest on outstanding Direct Subsidized Loans.

Two additional purposes for the information maintained in the NSLDS system relating to the Department's evaluation of the educational programs offered by institutions participating in title IV of the HEA, are to calculate and distribute performance metrics related to student aid recipients and to provide data for program oversight and strategic decision-making in the administration of the title IV programs, as provided in programmatic routine use (1)(p).

This altered system of records better reflects the programmatic routine use disclosures needed by the Department to establish student eligibility, as required under the HEA, by determining the length of students' eligibility for Direct Subsidized Loans such that it does not exceed 150 percent of the published length of the educational program in which a student is enrolled, and by determining the periods for which a borrower who enrolls after reaching the 150 percent limit will be responsible for the interest incurring on outstanding Direct Subsidized Loans. In addition, it reflects routine use disclosures needed by the Department to better evaluate the effectiveness of an institution's educational programs and to provide this information to assist the public in making choices about postsecondary education options.

Finally, we have revised and streamlined programmatic routine use 1(c), to read as follows: “To determine if educational programs lead to gainful employment in a recognized occupation, the Department may disclose records to educational institutions.”

Accessible Format: Individuals with disabilities can obtain this document in an accessible format (e.g., braille, large print, audiotape or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 25, 2013.
James W. Runcie,
Chief Operating Officer, Federal Student Aid.

For the reasons discussed in the preamble, the Chief Operating Officer, Federal Student Aid, of the U.S. Department of Education (Department), publishes a notice of an altered system of records to read as follows:

System Number:

18-11-06

SYSTEM NAME:

National Student Loan Data System (NSLDS)

SECURITY CLASSIFICATION:

None.

SYSTEM LOCATION:

Dell Perot Systems, 2300 West Plano Parkway, Plano, TX 75075-8247. (This is the computer center for the NSLDS Application Virtual Data Center.)

Iron Mountain, PO Box 294317, Lewisville, Texas 75029-4317. (This is the location where back-up tapes for NSLDS are maintained.)

CATEGORIES OF INDIVIDUALS COVERED BY THE SYSTEM:

This system contains records on persons who were recipients of aid under the title IV, Higher Education Act of 1965, as amended (HEA) programs. This system contains records on borrowers who received loans under the William D. Ford Federal Direct Loan (Direct Loan) Program, the Federal Family Education Loan (FFEL) Program, the Federal Insured Student Loan (FISL) Program, and the Federal Perkins Loan Program (including National Defense Student Loans, National Direct Student Loans, and Perkins Expanded Lending and Income Contingent Loans) (Perkins Loans). The system also contains records on recipients of Federal Pell Grants, Academic Competitiveness Grants (ACG), National Science and Mathematics Access to Retain Talent (National SMART) Grants, Teacher Education Assistance for College and Higher Education (TEACH) Grants, and Iraq and Afghanistan Service Grants, as well as on persons who owe an overpayment on a Federal Pell Grant, an ACG Grant, a National SMART Grant, a Federal Supplemental Educational Opportunity Grant (FSEOG), an Iraq and Afghanistan Service Grant, and a Federal Perkins Loan.

NSLDS further contains student enrollment information for persons who have received title IV, HEA student assistance as well as Master Conduit Loan Program Data, Master Loan Participation Program (LPP) Data, and loan-level detail on FFEL Subsidized, Unsubsidized, and PLUS loans funded through those programs.

The system also contains records on students (both title IV, HEA recipients and students who do not receive title IV aid, but receive private educational loans and/or institutional financing for education) who, during an award year, begin attendance in a program that is at least one-academic-year training program that leads to a certificate, or other non-degree recognized credential and that prepares students for gainful employment in a recognized occupation, or who begin an eligible program provided by a proprietary institution of higher education or a postsecondary vocational institution.

The system also contains records on the level of study, CIP code, and published length of an educational program in which a student receiving title IV, HEA Federal student aid is enrolled to limit his or her eligibility for Direct Subsidized Loans to no more than 150 percent of the published length of the educational program in which the student is enrolled, and to determine the periods for which a borrower who enrolls after reaching the 150 percent limit will be responsible for the accruing interest on outstanding Direct Subsidized Loans.

CATEGORIES OF RECORDS IN THE SYSTEM:

Records in NSLDS include, but are not limited to: (1) Borrower identifier information including Social Security number (SSN), name, date of birth, address, phone number, email address, and driver's license information; (2) information on the borrower's loan(s) covering the period from the origination of the loan through final payment, cancellation, consolidation, discharge, or other final disposition including details such as loan amount, disbursements, balances, loan status, repayment plan and related information, collections, claims, deferments, forbearances, refunds, and cancellations; (3) for students who began a program of study that prepares them for gainful employment in a recognized occupation pursuant to sections 1001 and 1002 of the HEA (“gainful employment program”), student identifiers including the student's SSN, date of birth, and name, student enrollment information including the Office of Postsecondary Education identification number (OPEID number) of the institution, the CIP code for the gainful employment program in which the student enrolled, and, if the student completed the program, the completion date and the CIP code of the completed program, the level of study, the amount of the student's private educational loan debt, the amount of institutionally provided financing owed by the student, and whether the student matriculated to a higher credentialed program at the same institution or another institution; (4) aggregated income information on graduates and non-completers of particular gainful employment programs, and the median loan debt incurred by students enrolled in the gainful employment program, regardless of whether they completed the program; (5) student demographic information such as dependency status, citizenship, veteran status, marital status, gender, income and asset information (including income and asset information on the student's spouse, if married), expected family contribution, and address; (6) information on the parent(s) of a dependent recipient, including, but not limited to: Name, date of birth, SSN, marital status, email address, highest level of schooling completed, and income and asset information; (7) information related to a borrower's application for an income-driven repayment plan, including information such as current income, family size, repayment plan selection, and, if married, information about the borrower's spouse; (8) Federal Pell Grant, ACG Grant, National SMART Grant, TEACH Grant, and Iraq and Afghanistan Service Grant amounts and dates of disbursement; (9) Federal Pell Grant, ACG Grant, National SMART Grant, Iraq and Afghanistan Service Grant, FSEOG, and Federal Perkins Loan Program overpayment amounts; (10) demographic and contact information on the guaranty agency that guarantees the borrower's FFEL loan and the lender(s), holder(s), and servicer(s) of the borrower's loan(s); (11) NSLDS user profiles that include name, SSN, date of birth, employer, and NSLDS user name; (12) information concerning the date of any default on loans and the aggregated loan data to support cohort default rate calculations for educational institutions, financial institutions, and guaranty agencies; (13) pre- and post-screening results used to determine a student or parent's aid eligibility; (14) information on financial institutions participating in the loan participation and sale programs established by the Department under the Ensured Continued Access to Student Loan Act of 2008 (ECASLA), including the collection of: ECASLA loan-level funding amounts, dates of ECASLA participation for financial institutions, dates and amounts of loans sold to the Department under ECASLA, and the amount of loans funded by the Department's programs but repurchased by the lender; and (15) information on the student's educational institution, level of study, the CIP code, and published length for the program in which the student enrolled for an institution or programs of studies at the institution.

AUTHORITY FOR MAINTENANCE OF THE SYSTEM:

The authority under which the system is maintained includes sections 101, 102, 132(i), 485, and 485B of the HEA (20 U.S.C. 1001, 1002, 1015a(i), 1092, and 1092b) and section 431 of the General Education Provisions Act (20 U.S.C. 1231a(2)-(3)). The collection of SSNs of borrowers who are covered by this system is authorized by 31 U.S.C. 7701 and Executive Order 9397 (November 22, 1943), as amended by Executive Order 13478 (November 18, 2008).

PURPOSE(S):

The information contained in this system is maintained for the following purposes relating to students and borrowers: (1) To determine student/borrower eligibility for title IV, HEA programs by NSLDS pre- and post-screening processes; (2) to report changes in student/borrower enrollment status and enrollment in gainful employment programs; (3) to track loan borrowers and students who owe grant overpayment amounts (debtors); (4) to provide an Exit Counseling tool for Teach Grants, FFEL loan programs, and Direct Loan programs that provides various calculators, requires students to complete a quiz to ensure understanding of their repayment obligations, and collects information to assist in the activity of skip-tracing for loan holders; (5) to provide Web-based access for borrowers/students to their loan, grant, and enrollment data; (6) to maintain information on the status of student loans; (7) to maintain information on the Federal Pell Grant program, the ACG Grant program, the National SMART Grant program, the TEACH Grant program, the Federal Supplemental Educational Opportunity Grant (FSEOG) program, and the Iraq and Afghanistan Service Grant program awards to students; (8) to provide borrowers and NSLDS users with loan refund/cancellation details; (9) to track the level of study and CIP code of students' programs to limit eligibility for Direct Subsidized Loans to no more than 150 percent of the published length of the educational program in which the student is enrolled, and to determine the periods for which a borrower who enrolls after reaching the 150 percent limit will be responsible for the accruing interest on outstanding Direct Subsidized Loans; and (10) to provide consumer tools to prospective students about costs, financial aid, aggregate earnings of title IV aid recipients who were enrolled at that postsecondary institution participating in title IV, HEA programs so that these prospective students can make informed decisions about which postsecondary institution to attend.

The information in NSLDS is also maintained for the following purposes relating to institutions participating in and administering the title IV, HEA programs: (1) To permit Department staff, Department contractors, guaranty agencies, eligible lenders, and eligible institutions of higher education to verify the eligibility of a student, potential student, or parent for loans or Pell grants; (2) to provide student aggregate loan calculations to educational institutions; (3) to track loan transfers from one entity to another; (4) to determine default rates for educational institutions, guaranty agencies, and lenders; (5) to prepare electronic financial aid histories on students or borrowers for educational institutions, guaranty agencies, Department staff, and Department contractors; (6) to alert educational institutions of changes in financial aid eligibility of students via the Transfer Student Monitoring process; (7) to assist Department staff, Department contractors and agents, guaranty agencies, educational institutions, lenders, and servicers in collecting debts arising from receipt of title IV, HEA funds; (8) to assess title IV, HEA program administration of guaranty agencies, educational institutions, lenders, and servicers; (9) to display organizational contact information provided by educational institutions, guaranty agencies, lenders, and servicers; (10) to provide reporting capabilities for educational institutions, guaranty agencies, lenders, and servicers for use in title IV, HEA administrative functions and for the Department for use in oversight and compliance; (11) to provide financial institutions, servicers, Department staff, and Department contractors with contact information on loan holders for use in the collection of loans; (12) to provide schools and servicers with information to resolve overpayments of Pell, ACG, National SMART, TEACH, Iraq and Afghanistan Service Grants, and FSEOG grants; (13) to assist Department staff, contractors, guaranty agencies, and the Department of Justice in the collection of debts owed to the Department under title IV of the HEA; (14) to obtain data on and to report on students in a gainful employment program for the purposes of establishing whether a particular gainful employment program is successfully preparing students to be gainfully employed and making this information available to the institution; (15) to obtain data and report the level of study, CIP code, and published length of an educational program in which a student receiving title IV, HEA Federal student aid is enrolled to ensure his or her eligibility for Direct Subsidized Loans is limited to no more than 150 percent of the published length of the educational program, and to determine the periods for which a borrower who enrolls after reaching the 150 percent limit will be responsible for the accruing interest on outstanding Direct Subsidized Loans; and (16) to provide consumer tools that are designed to simplify information that prospective students receive about costs, financial aid, and aggregate earnings of title IV aid recipients who were enrolled at postsecondary institutions participating in title IV, HEA programs so that these prospective students can make informed decisions about which postsecondary institution to attend.

The information maintained in this system is also maintained for the following purposes relating to the Department's oversight and administration of the title IV, HEA programs: (1) To assist audit and program review planning; (2) to support research studies and policy development; (3) to conduct budget analysis and program review planning; (4) to provide information that supports the Department's compliance with the Federal Credit Reform Act of 1990, as amended (CRA); (5) to ensure only authorized users access the database and to maintain a history of the student/borrower information reviewed; (6) to track the Department's interest in loans funded through ECASLA; (7) to track TEACH grants that have been converted to loans; (8) to track eligibility for and participation in Public Service Loan Forgiveness; (9) to capture data to support compliance and to calculate and distribute performance metrics related to gainful employment programs; (10) to provide data for program oversight and strategic decision-making in the administration of higher education programs; (11) to track eligibility for Direct Subsidized Loans and interest subsidy based upon the level of study, CIP code, and published length of the educational program in which a student is enrolled; and (12) to evaluate the effectiveness of an institution's education programs, and help provide information to the public at the institutional and programmatic level on this effectiveness.

ROUTINE USES OF RECORDS MAINTAINED IN THE SYSTEM, INCLUDING CATEGORIES OF USERS AND THE PURPOSES OF SUCH USES:

The Department may disclose information contained in a record in this system of records under the routine uses listed in this system of records notice without the consent of the individual if the disclosure is compatible with the purposes for which the record was collected. These disclosures may be made on a case-by-case basis or, if the Department has complied with the computer matching requirements of the Privacy Act of 1974, as amended, under a computer matching agreement.

(1) Program Disclosures.

The Department may disclose records to the specified users for the following program purposes:

(a) To verify the identity of the applicant involved, the accuracy of the record, or to assist with the determination of program eligibility and benefits, as well as institutional program eligibility, the Department may disclose records to the applicant, guaranty agencies, educational institutions, financial institutions and servicers, and to Federal and State agencies;

(b) To support default rate calculations and/or provide information on borrowers' current loan status, the Department may disclose records to guaranty agencies, educational institutions, financial institutions, servicers, and State agencies;

(c) To determine if educational programs lead to gainful employment in a recognized occupation, the Department may disclose records to educational institutions;

(d) To provide financial aid history information to aid in their administration of title IV, HEA programs, the Department may disclose records to educational institutions, guaranty agencies, loan holders, or servicers;

(e) To support auditors and program reviewers in planning and carrying out their assessments of title IV, HEA program compliance, the Department may disclose records to guaranty agencies, educational institutions, financial institutions and servicers, and to Federal, State, and local agencies;

(f) To support governmental researchers and policy analysts, the Department may disclose records to Federal, State, and local agencies using safeguards for system integrity and ensuring compliance with the Privacy Act;

(g) To support Federal budget analysts in the development of budget needs and forecasts, the Department may disclose records to Federal and State agencies;

(h) To assist in locating holders of loan(s), the Department may disclose records to students/borrowers, guaranty agencies, educational institutions, financial institutions and servicers, and Federal agencies;

(i) To assist analysts in assessing title IV, HEA program administration by guaranty agencies, educational institutions, and financial institutions and servicers, the Department may disclose records to Federal and State agencies;

(j) To assist loan holders in locating borrowers, the Department may disclose records to guaranty agencies, educational institutions, financial institutions that hold an interest in the loan and their servicers, and to Federal agencies;

(k) To assist with meeting requirements under the CRA, the Department may disclose records to Federal agencies;

(l) To assist program administrators with tracking refunds and cancellations of title IV, HEA loans, the Department may disclose records to guaranty agencies, educational institutions, financial institutions and servicers, and to Federal and State agencies;

(m) To enforce the terms of a loan, assist in the collection of a loan, or assist in the collection of an aid overpayment, the Department may disclose records to guaranty agencies, loan servicers, educational institutions and financial institutions, to the Department of Justice and private counsel retained by the Department of Justice, and to other Federal, State, or local agencies;

(n) To assist the Department in tracking loans funded under ECASLA, the Department may disclose records to Federal agencies;

(o) To assist the Department in complying with requirements that limit eligibility for Direct Subsidized Loans to no more than 150 percent of the published length of the educational program in which the student is enrolled, and to determine the periods for which a borrower who enrolls after reaching the 150 percent limit will be responsible for the interest accruing on outstanding Direct Subsidized Loans thereafter, the Department may disclose records to the applicant, guaranty agencies, educational institutions, financial institutions and servicers, and to Federal and State agencies; and

(p) To obtain data needed to assist the Department in evaluating the effectiveness of an institution's education programs and to provide the public with greater transparency about the level of economic return of an educational institution and their programs that are paid for with title IV, HEA program assistance, the Department may disclose records to educational institutions and to Federal and State agencies, including the Social Security Administration.

(2) Disclosure for Use by Other Law Enforcement Agencies. The Department may disclose information to any Federal, State, or local or foreign agency or other public authority responsible for enforcing, investigating, or prosecuting violations of administrative, civil, or criminal law or regulation if that information is relevant to any enforcement, regulatory, investigative, or prosecutorial responsibility within the receiving entity's jurisdiction.

(3) Enforcement Disclosure. In the event that information in this system of records indicates, either on its face or in connection with other information, a violation or potential violation of any applicable statute, regulation, or order of a competent authority, the Department may disclose the relevant records to the appropriate agency, whether foreign, Federal, State, tribal, or local, charged with the responsibility of investigating or prosecuting that violation or charged with enforcing or implementing the statute, Executive Order, rule, regulation, or order issued pursuant thereto.

(4) Litigation and Alternative Dispute Resolution (ADR) Disclosures.

(a) Introduction. In the event that one of the following parties is involved in judicial or administrative litigation or ADR, or has an interest in such litigation or ADR, the Department may disclose certain records to the parties described in paragraphs (b), (c), and (d) of this routine use under the conditions specified in those paragraphs:

(i) The Department or any of its components; or

(ii) Any Department employee in his or her official capacity; or

(iii) Any Department employee in his or her individual capacity where the Department of Justice (DOJ) agrees to or has been requested to provide or arrange for representation of the employee; or

(iv) Any Department employee in his or her individual capacity where the Department has agreed to represent the employee; or

(v) The United States, where the Department determines that the litigation is likely to affect the Department or any of its components.

(b) Disclosure to the DOJ. If the Department determines that disclosure of certain records to the DOJ is relevant and necessary to the judicial or administrative litigation or ADR, and is compatible with the purpose for which the records were collected, the Department may disclose those records as a routine use to the DOJ.

(c) Adjudicative Disclosures. If the Department determines that disclosure of certain records to an adjudicative body before which the Department is authorized to appear or to an individual or entity designated by the Department or otherwise empowered to resolve or mediate disputes is relevant and necessary to judicial or administrative litigation or ADR, the Department may disclose those records as a routine use to the adjudicative body, individual, or entity.

(d) Disclosure to Parties, Counsel, Representatives, and Witnesses. If the Department determines that disclosure of certain records is relevant and necessary to judicial or administrative litigation or ADR, the Department may disclose those records as a routine use to the party, counsel, representative, or witness.

(5) Freedom of Information Act (FOIA) or Privacy Act Advice Disclosure. The Department may disclose records to the DOJ or the Office of Management and Budget (OMB) if the Department seeks advice regarding whether records maintained in this system of records are required to be disclosed under the FOIA or the Privacy Act.

(6) Contract Disclosure. If the Department contracts with an entity to perform any function that requires disclosing records to the contractor's employees, the Department may disclose the records to those employees. Before entering into such a contract, the Department shall require the contractor to establish and maintain the safeguards required under the Privacy Act (5 U.S.C. 552a(m)) with respect to the records in the system.

(7) Congressional Member Disclosure. The Department may disclose records to a Member of Congress in response to an inquiry from the Member made at the written request of the individual whose records are being disclosed. The Member's right to the information is no greater than the right of the individual who requested it.

(8) Employment, Benefit, and Contracting Disclosure.

(a) For Decisions by the Department. The Department may disclose a record to a Federal, State, or local agency maintaining civil, criminal, or other relevant enforcement or other pertinent records, or to another public authority or professional organization, if necessary to obtain information relevant to a Departmental decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(9) Employee Grievance, Complaint, or Conduct Disclosure. The Department may disclose a record in this system of records to another agency of the Federal Government if the record is relevant to one of the following proceedings regarding a present or former employee of the Department: Complaint, grievance, or disciplinary or competency determination proceedings. The disclosure may only be made during the course of the proceeding.

(10) Labor Organization Disclosure. The Department may disclose records from this system of records to an arbitrator to resolve disputes under a negotiated grievance procedure or to officials of labor organizations recognized under 5 U.S.C. 71 when relevant and necessary to their duties of exclusive representation.

(11) Disclosure to the DOJ. The Department may disclose records to the DOJ to the extent necessary for obtaining DOJ advice on any matter relevant to an audit, inspection, or other inquiry related to the programs covered by this system.

(12) Disclosure to the OMB for CRA Support. The Department may disclose records to OMB as necessary to fulfill CRA requirements. These requirements currently include transfer of data on lender interest benefits and special allowance payments, defaulted loan balances, and supplemental pre-claims assistance payments information.

(13) Disclosure in the Course of Responding to Breach of Data. The Department may disclose records from this system to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

DISCLOSURE TO CONSUMER REPORTING AGENCIES:

Disclosures pursuant to 5 U.S.C. 552a(b)(12): The Department may disclose the following information to a consumer reporting agency regarding a valid overdue claim of the Department: (1) The name, address, taxpayer identification number, and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined in 15 U.S.C. 1681a(f) and 31 U.S.C. 3701(a)(3).

POLICIES AND PRACTICES FOR STORING, RETRIEVING, ACCESSING, RETAINING, AND DISPOSING OF RECORDS IN THE SYSTEM:

STORAGE:

The records are maintained electronically.

RETRIEVABILITY:

In order for users to retrieve student/borrower information they must supply the student/borrower SSN, name, and date of birth.

SAFEGUARDS:

Physical access to this system housed within the Virtual Data Center is controlled by a computerized badge reading system, and the entire complex is patrolled by security personnel during non-business hours. The computer system employed by the Department offers a high degree of resistance to tampering and circumvention. Multiple levels of security are maintained within the computer system control program. This security system limits data access to Department and contract staff on a “need-to-know” basis, and controls individual users' ability to access and alter records within the system. All users of this system of records are given a unique user ID with personal identifiers. All interactions by individual users with the system are recorded.

RETENTION AND DISPOSAL:

Records are retained for 15 years after an account is paid in full, and then destroyed in accordance with the Department's records retention and disposition schedule 051.

SYSTEM MANAGER(S) AND ADDRESS:

Director, National Student Loan Data System, FSA, U.S. Department of Education, UCP, 830 First Street NE., 4th Floor, Washington, DC 20202-5454.

NOTIFICATION PROCEDURE:

If you wish to determine whether a record exists regarding you in this system of records, contact the system manager and provide your name, date of birth, SSN, and the name of the school or lender from which the loan or grant was obtained. Requests for notification about whether the system of records contains information about an individual must meet the requirements of the regulations at 34 CFR 5b.5, including proof of identity.

RECORD ACCESS PROCEDURES:

If you wish to gain access to a record in this system, contact the system manager and provide information as described in the notification procedure. Requests by an individual for access to a record must meet the requirements of the regulations at 34 CFR 5b.5, including proof of identity.

CONTESTING RECORD PROCEDURES:

If you wish to contest the content of a record in the system of records, you must contact the system manager with the information described in the notification procedures, identify the specific item(s) to be changed, and provide a justification for the change, including any supporting documentation. Requests to amend a record must meet the requirements of the Department's Privacy Act regulations at 34 CFR 5b.7.

RECORD SOURCE CATEGORIES:

Information is obtained from guaranty agencies, educational institutions, and financial institutions and servicers, and the Free Application for Federal Student Aid completed by students and parents. Information is also obtained from other Department systems such as the Direct Loan Servicing System (covered by the system of records entitled “Common Services for Borrowers”); Debt Management Collection System (covered by the system of records entitled “Common Servicers for Borrowers”); Common Origination and Disbursement System; Financial Management System; Student Aid Internet Gateway, Participant Management System (covered by the system of records entitled “Student Aid Internet Gateway Enrollment”); Postsecondary Education Participants System (covered by the system of records entitled “Postsecondary Education Participants System”); and Central Processing System (covered by the system of records entitled “Federal Student Aid Application File”).

EXEMPTIONS CLAIMED FOR THE SYSTEM:

None.

[FR Doc. 2013-15574 Filed 6-27-13; 8:45 am]

BILLING CODE 4000-01-P